DEPARTMENT OF AGRICULTURE

Submission for OMB Review; Comment Request

July 12, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 16, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study of School Food Authority (SFA) Procurement Practices.

OMB Control Number: 0584—NEW.

Summary of Collection: The purpose of the Study of SFA Procurement Practices is to describe and assess the practices of SFAs related to procuring goods and services for the National School Lunch Program (NSLP), School Breakfast Program (SBP), Fresh Fruit and Vegetable Program (FFVP), Summer Food Service Program (SFSP), and Child and Adult Care Food Program (CACFP) and to better understand how SFAs make decisions that lead to these procurement practices. Study findings will describe similarities and differences in how SFAs procure goods and services and explain key issues and experiences of SFAs. Using a nationally representative sample of SFAs, this study will be one of the first Food and Nutrition Service (FNS) studies of SFA procurement practices for Child Nutrition (CN) meal programs that comprehensively examines the use of Food Service Management Companies and Cooperative Purchasing Agreements, recordkeeping, local purchases, and food purchase specifications. Procurement for CN meal programs can be affected by federal regulations (such as the Richard B. Russell National School Lunch Act, which set procurement requirements for NSLP and SBP in 2014), policy memos, program guidance, and grant funding, in addition to State and local policies.

Additionally, there are government-wide regulations under 7 CFR 210.21, 220.16, 225.17, 226.22, and 2 CFR 200 that also apply to these procurements. SFA procurement procedures must adhere to CN program and government-wide regulations and guidance, and State and local policies related to procurement.

Need and Use of the Information: This study will collect data on a voluntary basis from SFAs using a web survey and in-depth interviews. FNS will use the information collected through this study to better understand how SFAs make decisions that lead to their procurement practices for CN programs, to assist SFAs in understanding FNS regulations and complying with program requirements, to provide more effective policy guidance, and to provide supplemental training.

Description of Respondents: State, Local, or Tribal Government.

Number of Respondents: 760.

Frequency of Responses: Reporting: One-time.

Total Burden Hours: 1,268.

Ruth Brown,
Departmental Information Collection Clearance Officer.

[FR Doc. 2018-15184 Filed 7-16-18; 8:45 am]

BILLING CODE 3410-30-P